NATIONAL SCIENCE FOUNDATION

Notice of Permits Issued Under the Antarctic Conservation Act of 1978

AGENCY: National Science Foundation.

ACTION: Notice of permits cancelled under the Antarctic Conservation Act of 1978, Public Law 95-541.

SUMMARY: The National Science Foundation (NSF) is required to publish notice of permits cancelled under the Antarctic Conservation Act of 1978. This is the required notice.

FOR FURTHER INFORMATION CONTACT: Nadene G. Kennedy, Permit Office, Office of Polar Programs, Rm. 755, National Science Foundation, 4201 Wilson Boulevard, Arlington, VA 22230.

SUPPLEMENTARY INFORMATION: The permits were issued to Raytheon Polar Services Company (RPSC), the civilian support contractor to the National Science Foundation's Office of Polar Programs. On March 31, 2012, the contract expired and a new civilian support contractor, Lockheed Martin, Antarctic Support Contract took over on April 1, 2012. Effective on August 30, 2012, the following Raytheon Permits will be cancelled:

Permit No. 2012-009

Permit No. 2011-008

Permit No. 2011-009

Permit No. 2011-010

Permit No. 2011-011

Permit No. 2011-012

Permit No. 2011-013

Permit No. 2011-014

Permit No. 2011-015

Lockheed Martin has been issued some permits to replace those held by the previous support contractor. A notice of permits issued was published in the Federal Register on August 21, 2012.

Nadene G. Kennedy,
Permit Officer.

[FR Doc. 2012-21609 Filed 8-31-12; 8:45 am]

BILLING CODE 7555-01-P